DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: SURF (Summer Undergraduate Research Fellowship) Program Student Application Information.

OMB Control Number: 0693-0042.

Form Number(s): None.

Type of Request: Regular submission (extension of a currently approved information collection).

Number of Respondents: 300.

Average Hours per Response: 1 hour.

Burden Hours: 300.

Needs and Uses: The SURF Program provides an opportunity for the NIST laboratories and the National Science Foundation (NSF) to join in a partnership to encourage outstanding undergraduate students to pursue careers in science and engineering. The Program also provides research opportunities for students to work with internationally known NIST scientists, to expose them to cutting-edge research, and promote the pursuit of graduate degrees in science and engineering. The information is used for evaluation and selection, and includes: Student's name, host institution, email address/contact information, home address, class standing, first- and second-choice NIST laboratories they wish to apply to, academic major (minor), current overall grade point average, need for housing and gender (for housing purposes only), availability dates, resume, personal statement of commitment and research interests, two letters of recommendation, academic transcripts, verification of U.S. citizenship or permanent legal residency, and verification of health coverage.

Affected Public: Individuals or households.

Frequency: Annually.

Respondent's Obligation: Required to obtain or retain benefits.

OMB Desk Officer: Jasmeet Seehra, (202) 395-3123.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Jasmeet Seehra, OMB Desk Officer, FAX number (202) 395-5167, or via the Internet at Jasmeet_K_Seehra@omb.eop.gov.

Dated: October 18, 2012.
Gwellnar Banks,
Management Analyst, Office of the Chief Information Officer.

[FR Doc. 2012-26032 Filed 10-22-12; 8:45 am]

BILLING CODE 3510-13-P